NATIONAL SCIENCE FOUNDATION

Advisory Committee for Education and Human Resources; Notice of Meeting

In accordance with the Federal Advisory Committee Act (Pub. L. 92-463, as amended), the National Science Foundation (NSF) announces the following meeting:

Name and Committee Code: Advisory Committee for Education and Human Resources (#1119).

Date and Time: May 18, 2022; 12:00 p.m.-5:00 p.m. and May 19, 2022; 12:00 p.m.-5:00 p.m.

Place: National Science Foundation, 2415 Eisenhower Avenue, Alexandria, VA 22314 | Virtual.

To attend the virtual meeting, all visitors must register at least 48 hours prior to the meeting at: https://nsf.zoomgov.com/webinar/register/WN_VSSvAVnxTOK7ZWqjTGMcLw.

The final meeting agenda will be posted to EHR AC website: https://www.nsf.gov/ehr/advisory.jsp.

Type of Meeting: Open.

Contact Person: Keaven M. Stevenson, National Science Foundation, 2415 Eisenhower Avenue, Room C11001, Alexandria, VA 22314; (703) 292-8600/kstevens@nsf.gov.

Summary of Minutes: Minutes and meeting materials will be available on the EHR Advisory Committee website at http://www.nsf.gov/ehr/advisory.jsp or can be obtained from Dr. Bonnie A. Green, National Science Foundation, 2415 Eisenhower Avenue, Room C11000, Alexandria, VA 22314; (703) 292-8600; ehr_ac@nsf.gov.

Purpose of Meeting: To provide advice with respect to the Foundation's science, technology, engineering, and mathematics (STEM) education and human resources programming.

Agenda

Wednesday, May 18, 2022, 12:00 p.m.-5:00 p.m. (Eastern)

• Welcoming Remarks from the AC Chair and the EHR Acting Assistant Director

• Theme 1: Promoting Organizational Level Transformation in STEM Education and Workforce Development

○ Session 1-1: Through the Lens of Equity and Access: Improving Implementation of Evidence-based Practices for Organizational Level Transformation

○ Session 1-2: Understanding and Addressing Structural Barriers to Organizational Level Transformation

○ Session 1-3: Cultivating Partnerships to Promote Sustainable Organizational Level Transformation

Thursday, May 19, 2022, 12:00 noon-5:00 p.m. (Eastern)

• Theme 2: Advancing Racial Equity in STEM Education and Workforce Development

○ Session 2-1: Pathways to Achieving Racial Equity in STEM

○ Session 2-2: Translating, Scaling, and Transferring Racial Equity Research into Sustainable Practice

○ Session 2-3: Racial Equity, Diversity, and Inclusion as the Catalyst for Improving Graduate Education

• Discussion with NSF Director and Chief Operating Officer and Closing Remarks

Dated: April 7, 2022.
Crystal Robinson,
Committee Management Officer.

[FR Doc. 2022-07821 Filed 4-12-22; 8:45 am]

BILLING CODE 7555-01-P